DEPARTMENT OF LABOR

Occupational Safety and Health Administration

Advisory Committee on Construction Safety and Health; Notice of Meeting

AGENCY: Occupational Safety and Health Administration (OSHA), Labor.

ACTION: Notice of a meeting of the Advisory Committee on Construction Safety and Health (ACCSH).

SUMMARY: ACCSH will meet December 8-9, 2005, in Washington, DC. This meeting is open to the public.

Time and Date: ACCSH will meet from 8:30 a.m. to 4:30 p.m., Thursday, December 8, 2005, and from 8:30 a.m. to Noon, Friday, December 9, 2005.

Place: ACCSH will meet in Room N-3437 A/B/C of the Frances Perkins Building, U.S. Department of Labor, 200 Constitution Avenue, NW., Washington, DC 20210.

FOR FURTHER INFORMATION CONTACT: For general information about ACCSH and ACCSH meetings: Michael Buchet, OSHA, Directorate of Construction, Room N-3468, U.S. Department of Labor, 200 Constitution Avenue, NW., Washington, DC 20210; telephone (202)-693-2020. For information about submission of comments, requests to speak, and for special accommodations for the meeting: Veneta Chatmon, OSHA, Office of Communications, Room N-3647, U.S. Department of Labor, 200 Constitution Avenue, NW., Washington, DC 20210; telephone (202) 693-1999.

SUPPLEMENTARY INFORMATION: ACCSH will meet December 8-9, 2005, in Washington, DC. The agenda for this meeting includes:

• Remarks—Office of the Assistant Secretary—OSHA.

• Remarks—OSHA's Directorate of Construction.

• Trenching Data and Initiative Update.

• Trench/Excavation Rescue Presentation.

• Standards Update.

• Work Group Assignments and Reports.

• OSHA Hurricane Response and FEMA Annex Activation Overview.

• OSHA's Role in National Response Plan.

• OSHA Partnership, Alliance, Challenge, and Voluntary Protection Program for Construction Update.

• Public Comment (During this period, any member of the public is welcome to address ACCSH about construction-related safety and health issues. See information below to request time to speak.).

All ACCSH meetings, as well as those of its work groups, are open to the public. For access to the official record of the ACCSH meeting, go to OSHA's Web page at http://www.osha.gov. The record is also available for inspection and copying at the OSHA Docket Office, Room N-2625, U.S. Department of Labor, 200 Constitution Avenue, NW., Washington, DC 20210; telephone (202) 693-2350 (OSHA's TTY number is (877) 899-5627). Electronic copies of this Federal Register notice, as well as information about ACCSH work groups and other relevant documents, are available at OSHA's Web page.

Interested parties may request to make an oral presentation to ACCSH by notifying Ms. Chatmon before the meeting at the address above. The request must state the amount of time desired, the interest represented by the presenter (e.g., the name of the business or organization), if any, and a brief outline of the presentation. Alternately, at the meeting, attendees may request to address ACCSH by signing the public comment request sheet. Requests to present or speak may be granted at the ACCSH Chair's discretion and as time permits.

Attendees and interested parties may also submit written data, views, or comments, preferably with 20 copies, to Ms. Chatmon, at the address above or at the ACCSH meeting. OSHA will provide submissions to ACCSH members and will include each submission in the record of the meeting.

Individuals needing special accommodations for the ACCSH meeting should contact Ms. Chatmon by December 2, 2005.

ACCSH Work Groups

Tuesday, December 6, 2005—Work Groups

The following ACCSH work groups will meet December 6, 2005, in Room S-4215 of the Frances Perkins Building at the address above:

8:30 a.m.-12:30 p.m.—Diversity/Multilingual work group.

1:30-4:30 p.m.—Roll-Over Protective Structures work group.

Wednesday, December 7, 2005—Work Groups

The following ACCSH work groups will meet December 7, 2005, in Room S-2217 of the Frances Perkins Building at the address above:

8:30-10:30 a.m.—Trenching work group.

10:30 a.m.-4:30 p.m.—Residential Fall Protection work group.

ACCSH work group meetings are open to the public. For further information on ACCSH work group meetings or participating in them, please contact Michael Buchet at the address above or look on the ACCSH page on OSHA's Web page.

Authority: Jonathan L. Snare, Acting Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), and Secretary of Labor's Order No. 5-2002 (67 FR 65008).

Signed at Washington, DC, this 17th day of November, 2005.
Jonathan L. Snare,
Acting Assistant Secretary of Labor.

[FR Doc. 05-23147 Filed 11-22-05; 8:45 am]

BILLING CODE 4510-26-P